DEPARTMENT OF THE INTERIOR

Bureau of Land Management

[CA-160-1220-PG]

Notice of Public Meeting, Carrizo Plain National Monument Advisory Committee

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Carrizo Plain National Monument Advisory Committee will meet as indicated below.

DATES: The meeting will be held Saturday, March 8, 2003, at the Carrisa Plains School located approximately two miles west of the intersection of Soda Lake Road and Highway 58. The meeting will begin at 10 a.m. The agenda calls for a discussion of the Charter which authorizes the committee to advise BLM on the management of the Carrizo Plain National Monument, and a general discussion of the committee's duties and function. The committee will be briefed on the status of the planning process to update the existing Carrizo Management Plan.

FOR FURTHER INFORMATION CONTACT: Larry Mercer, Public Affairs Officer, Bureau of Land Management, 3801 Pegasus Drive, Bakersfield, CA 93308, telephone 661-391-6010.

SUPPLEMENTARY INFORMATION: The 9 member Carrizo Plain Advisory Committee advises the Bureau of Land Management, through the Designated Federal Officer (Ron Fellows, BLM-Bakersfield Field Manager) on planning and management issues for the Carrizo Plain National Monument. At this meeting, topics to be discussed and business to be conducted include:

Orientation and future planning for Committee members.

Election of officers.

Briefing on BLM structure and issues.

Update on the planning process to date regarding the Carrizo Plain National Monument Resource Management Plan.

Discussion of Committee input on the planning process.

All meetings of the Committee are open to the public, and the public is invited to attend and participate. A time will be allocated for hearing public comments, and written comments may be submitted either at the meeting or to the address above. Depending on the number of persons wishing to comment and the time available, the time for individual oral comments may be limited.

Individuals who plan to attend and need special assistance such as sign language interpretation or other reasonable accommodations should contact the BLM as indicated above.

Dated: February 4, 2003.
Ron Fellows,
Field Manager.

[FR Doc. 03-3640 Filed 2-13-03; 8:45 am]

BILLING CODE 4310-40-P